DEPARTMENT OF DEFENSE

Department of the Army

Notice of Availability of Ballistic Survivability, Lethality and Vulnerability Analyses

AGENCY: Department of the Army, DoD.

ACTION: Notice of availability.

SUMMARY: The US Army Research Laboratory's (ARL's), Survivability, Lethality Analysis Directorate (SLAD) is a leader in ballistic survivability, lethality and vulnerability (SLV) analyses. ARL/SLAD conducts SLV analyses, using the MUVES-S2 vulnerability model, to quantify system, subsystem and/or component level vulnerabilities of ground and air vehicles. These analyses are used to support production, design, trade and evaluation decisions. These capabilities are being made available to qualified interested parties. Collaborations will be governed by Cooperative Research and Development Agreements (15 U.S.C. 3710) and fee-based testing services will be governed by Test Service Agreements (10 U.S.C. 2539b).

FOR FURTHER INFORMATION CONTACT: Michael D. Rausa, telephone (410) 278-5028. For further technical information, please contact Denise Jordan, (410) 278-6322, denise.a.jordan10.civ@mail.mil.

SUPPLEMENTARY INFORMATION: None.

Brenda S. Bowen,
Army Federal Register Liaison Officer.

[FR Doc. 2012-2845 Filed 2-7-12; 8:45 am]

BILLING CODE 3710-08-P